DEPARTMENT OF ENERGY

Federal Energy Regulatory Commission

Combined Notice of Filings #1

Take notice that the Commission received the following electric corporate filings:

Docket Numbers: EC20-64-000.

Applicants: Catalyst Old River Hydroelectric Limited Partnership, Brookfield Power US Holding America Co.

Description: Clarification to May 7, 2020 Joint Application for Authorization Under Section 203 of the Federal Power Act, et al. of Catalyst Old River Hydroelectric Limited Partnership, et al.

Filed Date: 8/3/20.

Accession Number: 20200803-5152.

Comments Due: 5 p.m. ET 8/10/20.

Docket Numbers: EC20-86-000.

Applicants: Weaver Wind, LLC, Weaver Wind Maine Master Tenant, LLC.

Description: Application for Authorization Under Section 203 of the Federal Power Act, et al. of Weaver Wind, LLC, et al.

Filed Date: 7/31/20.

Accession Number: 20200731-5337.

Comments Due: 5 p.m. ET 8/21/20.

Take notice that the Commission received the following exempt wholesale generator filings:

Docket Numbers: EG20-223-000.

Applicants: Diamond Spring, LLC.

Description: Diamond Spring, LLC Notice of Self-Certification of Exempt Wholesale Generator.

Filed Date: 7/31/20.

Accession Number: 20200731-5278.

Comments Due: 5 p.m. ET 8/21/20.

Take notice that the Commission received the following electric rate filings:

Docket Numbers: ER10-2042-036; ER10-1944-009; ER10-2051-011; ER10-1942-028; ER17-696-016; ER14-2931-009; ER10-1941-013; ER19-1127-003; ER10-2043-011; ER10-2029-013; ER10-2041-011; ER18-1321-004; ER10-2040-011; ER20-1939-002; ER10-1938-031; ER10-2036-012; ER13-1407-010; ER10-1934-030; ER10-1893-030; ER10-3051-035; ER10-2985-034; ER10-3049-035; ER10-1889-009; ER10-1888-013; ER10-1885-013; ER10-1884-013; ER10-1883-013; ER10-1878-013; ER10-3260-011; ER10-1877-008; ER20-1699-001; ER10-1895-009; ER10-1876-013; ER10-1875-013; ER10-1873-013; ER10-1871-009; ER10-1870-009; ER11-4369-015; ER16-2218-015; ER12-1987-011; ER10-1947-013; ER12-2645-006; ER10-1863-008; ER10-1862-030; ER12-2261-012; ER10-1865-013; ER10-1858-009; ER13-1401-009; ER10-2044-011.

Applicants: Calpine Energy Services, L.P., Bethpage Energy Center 3, LLC, Calpine Bethlehem, LLC, Calpine Construction Finance Company, LP, Calpine Energy Solutions, LLC, Calpine Fore River Energy Center, LLC, Calpine Gilroy Cogen, L.P., Calpine King City Cogen, LLC, Calpine Mid-Atlantic Generation, LLC, Calpine Mid-Atlantic Marketing, LLC, Calpine Mid Merit, LLC, Calpine Mid-Merit II, LLC, Calpine New Jersey Generation, LLC, Calpine Northeast Development, LLC, Calpine Power America—CA, LLC, Calpine Vineland Solar, LLC, CCFC Sutter Energy, LLC, CES Marketing IX, LLC, CES Marketing X, LLC, Champion Energy, LLC, Champion Energy Marketing LLC, Champion Energy Services, LLC, CPN Bethpage 3rd Turbine, Inc., Creed Energy Center, LLC, Delta Energy Center, LLC, Geysers Power Company, LLC, Gilroy Energy Center, LLC, Goose Haven Energy Center, LLC, Granite Ridge Energy, LLC, Hermiston Power, LLC, Johanna Energy Center, LLC, KIAC Partners, Los Esteros Critical Energy Facility LLC, Los Medanos Energy Center, LLC, Metcalf Energy Center, LLC, Morgan Energy Center, LLC, Nissequogue Cogen Partners, North American Power and Gas, LLC, North American Power Business, LLC, O.L.S. Energy-Agnews, Inc., Otay Mesa Energy Center, LLC, Pastoria Energy Facility L.L.C., Pine Bluff Energy, LLC, Power Contract Financing, L.L.C., Russell City Energy Company, LLC, TBG Cogen Partners, South Point Energy Center, LLC, Zion Energy LLC, Westbrook Energy Center, LLC.

Description: Notification of Change in Status of the Calpine MBR Sellers, et. al.

Filed Date: 7/30/20.

Accession Number: 20200730-5279.

Comments Due: 5 p.m. ET 8/20/20.

Docket Numbers: ER10-2861-007; ER13-1504-008; ER10-2866-007.

Applicants: Fountain Valley Power, L.L.C., SWG Arapahoe, LLC, SWG Colorado, LLC.

Description: Amendment to December 20, 2019 Updated Market Power Analysis for the Northwest Region of Fountain Valley Power, L.L.C., et. al.

Filed Date: 7/31/20.

Accession Number: 20200731-5147.

Comments Due: 5 p.m. ET 8/21/20.

Docket Numbers: ER19-1507-006.

Applicants: Duke Energy Florida, LLC, Duke Energy Progress, LLC, Duke Energy Carolinas, LLC.

Description: Compliance filing: Joint OATT Compliance Filing for Order No. 845 (May 2020) to be effective 5/22/2019.

Filed Date: 8/3/20.

Accession Number: 20200803-5171.

Comments Due: 5 p.m. ET 8/24/20.

Docket Numbers: ER20-2009-001.

Applicants: Tri-State Generation and Transmission Association, Inc.

Description: Tariff Amendment: Amendment to Formula Rate Template to be effective 7/15/2020.

Filed Date: 8/3/20.

Accession Number: 20200803-5054.

Comments Due: 5 p.m. ET 8/24/20.

Docket Numbers: ER20-2594-000.

Applicants: Vermont Transco LLC.

Description: Compliance filing: Order 864 Compliance Filing to be effective 1/1/2021.

Filed Date: 7/31/20.

Accession Number: 20200731-5182.

Comments Due: 5 p.m. ET 8/21/20.

Docket Numbers: ER20-2595-000.

Applicants: SR Rattlesnake, LLC.

Description: Baseline eTariff Filing: MBR Application to be effective 9/30/2020.

Filed Date: 7/31/20.

Accession Number: 20200731-5184.

Comments Due: 5 p.m. ET 8/21/20.

Docket Numbers: ER20-2596-000.

Applicants: Exelon Generation Supply, LLC.

Description: Baseline eTariff Filing: Application for Market-Based Rate Authorization to be effective 9/30/2020.

Filed Date: 7/31/20.

Accession Number: 20200731-5192.

Comments Due: 5 p.m. ET 8/21/20.

Docket Numbers: ER20-2597-000.

Applicants: Soldier Creek Wind, LLC.

Description: Baseline eTariff Filing: Soldier Creek Wind, LLC Application for MBR Authority to be effective 9/30/2020.

Filed Date: 7/31/20.

Accession Number: 20200731-5216.

Comments Due: 5 p.m. ET 8/21/20.

Docket Numbers: ER20-2598-000.

Applicants: Appalachian Power Company, Indiana Michigan Power Company, Kentucky Power Company, Kingsport Power Company, Ohio Power Company, Wheeling Power Company, AEP Appalachian Transmission Company, Inc., AEP Indiana Michigan Transmission Company, AEP Ohio Transmission Company, Inc., AEP West Virginia Transmission Company, American Electric Power Service Corporation, PJM Interconnection, L.L.C.

Description: § 205(d) Rate Filing: AEP submits revisions to PJM OATT to Update Depreciation Rates to be effective 3/11/2020.

Filed Date: 7/31/20.

Accession Number: 20200731-5224.

Comments Due: 5 p.m. ET 8/21/20.

Docket Numbers: ER20-2599-000.

Applicants: Alabama Power Company.

Description: § 205(d) Rate Filing: Origis Holdings USA Subco (Choctaw I Solar) LGIA Filing to be effective 7/20/2020.

Filed Date: 8/3/20.

Accession Number: 20200803-5149.

Comments Due: 5 p.m. ET 8/24/20.

Docket Numbers: ER20-2600-000.

Applicants: Alabama Power Company.

Description: § 205(d) Rate Filing: Origis Holdings USA Subco (Choctaw II Solar) LGIA Filing to be effective 7/20/2020.

Filed Date: 8/3/20.

Accession Number: 20200803-5150.

Comments Due: 5 p.m. ET 8/24/20.

Docket Numbers: ER20-2601-000.

Applicants: PJM Interconnection, L.L.C.

Description: § 205(d) Rate Filing: Original WMPA, Service Agreement No. 5726; Queue No. AE1-188/AF1-224 to be effective 6/29/2020.

Filed Date: 8/3/20.

Accession Number: 20200803-5151.

Comments Due: 5 p.m. ET 8/24/20.

Docket Numbers: ER20-2602-000.

Applicants: Nobles 2 Power Partners, LLC.

Description: Baseline eTariff Filing: Application for Market-Based Rate Authorization and Request for Waivers to be effective 8/4/2020.

Filed Date: 8/3/20.

Accession Number: 20200803-5177.

Comments Due: 5 p.m. ET 8/24/20.

Take notice that the Commission received the following electric securities filings:

Docket Numbers: ES20-51-000.

Applicants: GridLiance High Plains LLC.

Description: Application Under Section 204 of the Federal Power Act for Authorization to Issue Securities of GridLiance High Plains LLC.

Filed Date: 7/31/20.

Accession Number: 20200731-5328.

Comments Due: 5 p.m. ET 8/5/20.

Docket Numbers: ES20-52-000.

Applicants: Wolverine Power Supply Cooperative, Inc.

Description: Application Under Section 204 of the Federal Power Act for Authorization to Issue Securities, et al. of Wolverine Power Supply Cooperative, Inc.

Filed Date: 7/31/20.

Accession Number: 20200731-5336.

Comments Due: 5 p.m. ET 8/5/20.

Take notice that the Commission received the following public utility holding company filings:

Docket Numbers: PH20-15-000.

Applicants: Consumers Energy Company.

Description: CMS Energy Corporation submits FERC-65-B Notice of Material Change to Waive Notification.

Filed Date: 7/31/20.

Accession Number: 20200731-5250.

Comments Due: 5 p.m. ET 8/21/20.

Take notice that the Commission received the following qualifying facility filings:

Docket Numbers: QF20-1228-000.

Applicants: Kimberly-Clark Corporation.

Description: Form 556 of Kimberly-Clark Corporation [Chester].

Filed Date: 7/31/20.

Accession Number: 20200731-5330.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2020.
Nathaniel J. Davis, Sr.,
Deputy Secretary.

[FR Doc. 2020-17317 Filed 8-6-20; 8:45 am]

BILLING CODE 6717-01-P